DEPARTMENT OF JUSTICE

Drug Enforcement Administration

Manufacturer of Controlled Substances; Notice of Application; Correction

By Notice dated June 1, 2006, and published in the Federal Register on June 8, 2006, (71 FR 33315), the listing of controlled substances Marihuana (7360), and Noroxymorphone (9668), were inadvertently omitted, for Mallinckrodt Inc., 3600 North Second Street, St. Louis, Missouri 63147. The Notice of Application should be corrected to include Marihuana (7360) and Noroxymorphone (9668).

Dated: July 27, 2006.
Joseph T. Rannazzisi,
Deputy Assistant Administrator, Office of Diversion Control, Drug Enforcement Administration.

[FR Doc. E6-12837 Filed 8-7-06; 8:45 am]

BILLING CODE 4410-09-P